ENVIRONMENTAL PROTECTION AGENCY

[Regional Docket Nos. II-2003-02, II-2005-05; FRL-8179-2]

Clean Air Act Operating Permit Program; Petition for Objection to State Operating Permit for G-P Gypsum Corporation; and Request for Reconsideration of Order Regarding Eastman Kodak Company, Kodak Park Facility

AGENCY: Environmental Protection Agency (EPA).

ACTION: Notice of final decisions concerning State operating permits.

SUMMARY: This document announces two decisions the EPA Administrator has made. First, the Administrator has partially granted and partially denied a citizen petition submitted by the South Jersey Environmental Justice Alliance (SJEJA) requesting that EPA object to an operating permit issued to the G-P Gypsum Corporation by the New Jersey Department of Environmental Protection (NJDEP). Secondly, the Administrator has granted a request from the New York State Department of Environmental Conservation (NYSDEC) that EPA reconsider certain revisions to the Kodak Park Facility's operating permit mandated by the Administrator's February 18, 2005 Order, which was issued in response to a citizen petition. In granting NYSDEC(s request, the Administrator has amended the February 18, 2005 Order. While some changes have been made, none of the Administrator's previous issue-specific decisions to grant the Kodak Park petition have been reversed in the amendment.

Pursuant to section 505(b)(2) of the Clean Air Act (Act), Petitioner (SJEJA) may seek judicial review of those portions of the G-P Gypsum petition which EPA denied in the United States Court of Appeals for the appropriate circuit. Any petition for review shall be filed within 60 days from the date this notice appears in the Federal Register, pursuant to section 307 of the Act. The Administrator's action amending the February 18, 2005 Order on Kodak is not subject to judicial review, as no portions of the original citizen petition were denied.

ADDRESSES: You may review copies of the final order, the petition, and all relevant information at the EPA Region 2 Office, 290 Broadway, New York, New York 10007-1866. If you wish to examine these documents, you should make an appointment at least 24 hours before visiting day. Additionally, the final order for G-P Gypsum is available electronically at: http://www.epa.gov/region07/programs/artd/air/title5/petitiondb/petitiondb2002.htm, and the amended Kodak order is available electronically at: http://www.epa.gov/region07/programs/artd/air/title5/petitiondb/petitiondb2003.htm.

FOR FURTHER INFORMATION CONTACT: Steven Riva, Chief, Permitting Section, Air Programs Branch, Division of Environmental Planning and Protection, EPA, Region 2, 290 Broadway, 25th Floor, New York, New York 10007-1866, telephone (212) 637-4074.

SUPPLEMENTARY INFORMATION: The Act affords EPA a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

I. G-P Gypsum Corporation

On September 15, 2005, the EPA received a petition from SJEJA, requesting that EPA object to the issuance of the title V operating permit for G-P Gypsum based on the following allegations: (1) The draft permit was not accompanied by a statement of basis explaining various permitting decisions, particularly eight monitoring provisions that NJDEP added after the close of public comment; (2) the facility should have filed a compliance plan and the permit should have contained a compliance schedule; (3) the permit fails to address past violations; (4) the permit has inadequate monitoring and reporting provisions; (5) NJDEP failed to ensure safe ambient air quality levels in the Camden area; and (6) NJDEP did not adequately address environmental justice issues.

On April 4, 2006, the Administrator issued an order partially granting and partially denying the petition on G-P Gypsum. The order explains the reasons behind EPA's conclusion that the NJDEP must re-issue the statement of basis to provide an explanation for the eight monitoring provisions added after the close of the public comment period. The order also explains the reasons for denying SJEJA's remaining claims.

II. Kodak Park

On August 16, 2005, the EPA received a letter from NYSDEC, requesting that EPA reconsider certain revisions to the Kodak Park Facility's operating permit, mandated by the Administrator's February 18, 2005 Order. This Order granted in part and denied in part a petition filed by the New York Public Interest Research Group, asking EPA to object to the Kodak Park Facility(s operating permit. In its letter, NYSDEC sought reconsideration of EPA's objections for the following reasons: (1) The actual annual quantity of benzene in facility waste is very low compared to the permitted cap; (2) the standard test method for volatile organic compounds (VOC) in coatings and fountain solutions is burdensome and yields unreliable results, and actual VOC levels are low compared to permitted levels; and (3) frequent monitoring on several small cold cleaning units is overly burdensome.

On April 4, 2006, the Administrator issued an amended order, granting the request for reconsideration on Kodak Park. The amended Order explains the reasons behind EPA's decision to provide the NYSDEC with some flexibility in resolving EPA's February 18, 2005 objections regarding these three issues. The amended Order also explains why EPA believes there continue to be sufficient bases on which to grant the citizen petition on these issues.

Dated: May 22, 2006.
Alan J. Steinberg,
Regional Administrator, Region 2.

[FR Doc. E6-8617 Filed 6-1-06; 8:45 am]

BILLING CODE 6560-50-P